OFFICE OF SPECIAL COUNSEL

Information Collection Activities; Submission for OMB Review; Comment Request

AGENCY: U.S. Office of Special Counsel (OSC).

ACTION: Notice of request for public comment and submission for OMB review of proposed collection of information.

SUMMARY: In accordance with the Paperwork Reduction Act of 1995, the U.S. Office of Special Counsel (OSC) is submitting the following information collection request to the Office of Management and Budget (OMB) for review and approval. OSC is also seeking public comment on this collection from all interested individuals and organizations. The purpose of this notice is to allow an additional 30 days for public comment prior to OMB's final approval.

DATES: Comments must be received by July 16, 2025.

ADDRESSES: You may submit written comments and recommendations for the proposed information collection within 30 days of publication of this notice at: www.reginfo.gov/public/do/PRAMain. Locate this particular collection by selecting “Currently under 30-day Review—Open for Public Comments” or by using the search function.

FOR FURTHER INFORMATION CONTACT: Barbara Wheeler Jones, U.S. Office of Special Counsel, at (202) 804-7131 or via email at frliaison@osc.gov.

SUPPLEMENTARY INFORMATION:

• Title of Collection: Alternative Dispute Resolution (ADR) Program Survey.

• OMB Control Number: 3255-0003.

• Type of Review: Extension without change of a currently approved collection.

• Respondents: Individuals who have participated in OSC's ADR Program.

• Estimated Number of Respondents: 80.

• Estimated Time per Response: 35 minutes (0.583 hours).

• Total Estimated Annual Burden: 46.64 hours.

• Obligation To Respond: Voluntary.

OSC published a 60-day notice for this collection in the Federal Register on April 9, 2025 [90 FR 15265], requesting public comment on its intent to extend this currently approved information collection. The ADR Survey is distributed to participants following completion of the mediation process and is used to evaluate program effectiveness and identify opportunities for improvement. All responses are anonymous and collected voluntarily.

This 30-day notice provides a final opportunity for public comment. OSC welcomes feedback on the utility, clarity, and effectiveness of the ADR Program Survey and how it may be improved to better serve mediation participants. No personally identifiable information is collected through the survey.

All comments must be submitted in writing through the methods listed in the ADDRESSES section. Comments submitted in response to this notice will become part of the public record and may be publicly accessible. Please avoid including any sensitive personal information in your submission.

Dated: June 10, 2025.
Barbara Wheeler Jones,
Chief, Case Review Division, U.S. Office of Special Counsel.

[FR Doc. 2025-10894 Filed 6-13-25; 8:45 am]

BILLING CODE 7405-01-P